DEPARTMENT OF LABOR

Employment and Training Administration

[TA-W-60,747]

Aerotek Staffing Agency, Kentwood, MI; Notice of Termination of Investigation

Pursuant to Section 221 of the Trade Act of 1974, an investigation was initiated on January 11, 2007 in response to a worker petition filed by the State Agency on behalf of workers at Aerotek Staffing Agency, Kentwood, Michigan, working on-site at D-M-E Company, a subsidiary of Milacron, Inc., Charlevoix, Michigan.

The petitioning group of workers is covered by an active amended certification (TA-W-60,301), which expires on November 8, 2008. Consequently, further investigation in this case would serve no purpose, and the investigation has been terminated.

Signed at Washington, DC, this 18th day of January, 2007.
Elliott S. Kushner,
Certifying Officer, Division of Trade Adjustment Assistance.

[FR Doc. E7-1470 Filed 1-30-07; 8:45 am]

BILLING CODE 4510-30-P